DEPARTMENT OF HEALTH AND HUMAN SERVICES

Food and Drug Administration

21 CFR Part 573

[Docket No. FDA-2024-F-3882]

Food Additives Permitted in Feed and Drinking Water of Animals; Pichia Pastoris Dried Yeast

AGENCY: Food and Drug Administration, HHS.

ACTION: Final rule; technical amendment.

SUMMARY: The Food and Drug Administration (FDA) is amending the food additive regulations to update the organism Pichia pastoris which has been renamed as Komagataella pastoris. Additionally, the food additive regulation is being updated to include language to clarify that the yeast is non-viable in the market formulation. This action is being taken to improve the accuracy of the regulations.

DATES: This rule is effective September 5, 2024.

FOR FURTHER INFORMATION CONTACT: Chelsea Cerrito, Center for Veterinary Medicine, Division of Animal Food Ingredients, Food and Drug Administration, 12225 Wilkins Ave., Rockville, MD 20852, 240-402-6729, Chelsea.Cerrito@fda.hhs.gov.

SUPPLEMENTARY INFORMATION: FDA is amending the food additive regulation at 21 CFR 573.750 Pichia pastoris dried yeast for use in animal feed to update the organism Pichia pastoris which has been renamed as Komagataella pastoris. Additionally, the food additive regulation is being updated to include language to clarify that the yeast is non-viable in the market formulation. This action is being taken to improve the accuracy of the regulations.

Publication of this document constitutes final action under the Administrative Procedure Act (5 U.S.C. 553). FDA has determined that notice and public comment are unnecessary because this amendment to the regulations provides only technical changes including updating scientific nomenclature and is nonsubstantive.

List of Subjects in 21 CFR Part 573

Animal feeds, Food additives.

Therefore, under the Federal Food, Drug, and Cosmetic Act, and the Public Health Service Act, and under the authority delegated to the Commissioner of Food and Drugs, 21 CFR part 573 is amended as follows:

PART 573—FOOD ADDITIVES PERMITTED IN FEED AND DRINKING WATER OF ANIMALS

1. The authority citation for part 573 continues to read as follows:

Authority: 21 U.S.C. 321, 342, 348.

§ 573.750 [Redesignated as § 573.587]

2. Redesignate § 573.750 as § 573.587.

3. Amend newly redesignated § 573.587 by revising the section heading and paragraph (a) to read as follows:

§ 573.587 Komagataella pastoris dried yeast.

(a) Identity. The food additive Komagataella pastoris dried yeast is non-viable and may be used in feed formulations of broiler chickens as a source of protein not to exceed 10 percent by weight of the total formulation.

* * * * *

Dated: August 28, 2024.
Lauren K. Roth,
Associate Commissioner for Policy.

[FR Doc. 2024-19856 Filed 9-4-24; 8:45 am]

BILLING CODE 4164-01-P